POSTAL SERVICE

39 CFR Part 232

Conduct on Postal Property; Postal Service Security Force

AGENCY: Postal Service.

ACTION: Final rule.

SUMMARY: The U.S. Postal Service is amending the enforcement provisions of the rules for conduct on Postal Service property to restate the statutory basis for the powers of members of the Postal Service security force. Enactment of permanent law defining these powers and authority necessitates this amendment. The Postal Service infers and intends no substantive change to the referenced powers and authority.

DATES: Effective March 13, 2007.

FOR FURTHER INFORMATION CONTACT: Lawrence Katz, Inspector in Charge, Office of Counsel, U.S. Postal Inspection Service, 202-268-7732.

SUPPLEMENTARY INFORMATION: As the law enforcement arm of the Postal Service, the U.S. Postal Inspection Service is responsible for enforcing the rules governing conduct on Postal Service property. The rules are published in 39 CFR 232.1. With regard to the enforcement of these rules, subsection 232.1(q) provides that (1) they are enforced by the Postal Service security force, (2) postal installation heads and postmasters may enter into agreements with state and local law enforcement agencies to enforce these rules, and (3) certain other designated persons may likewise enforce the rules.

The security force is a component of the Postal Inspection Service and comprises those armed, uniformed employees whom the Postal Service has since 1971 been authorized by 39 U.S.C. 1201 to employ as guards for the protection of postal premises. In lieu of a provision for the specific police powers of such guards in permanent legislation, their powers were provided through a general provision in annual appropriations acts, beginning with that of 1973 (Pub. L. 92-351, 86 Stat. 471, section 612). Such general provisions uniformly incorporated by reference the powers given to special policemen by title 40, United States Code. The most recent act to do so was the annual appropriations act for 2006 (Pub. L. 109-115, 119 Stat. 2396, section 811). The Postal Accountability and Enhancement Act (Pub. L. 109-435, 120 Stat. 3198, section 1001) contains a permanent provision for the enforcement authority of postal police officers, codified in new subsection (c) of 18 U.S.C. 3061. The enforcement provision at 39 CFR 232.1(q)(1) requires amendment accordingly.

As amended, 18 U.S.C. 3061 provides the fundamental powers of postal police officers and gives the Postal Service authority to provide by regulation for certain additional powers. The fundamental powers parallel those given to postal police officers by previous law. The Postal Service intends by this amendment simply to maintain the status quo with regard to the powers of members of the postal security force, albeit through citation to the relevant provision of title 18, United States Code, as recently amended, rather than to provisions of title 40, United States Code, no longer applicable.

List of Subjects in 39 CFR Part 232

Authority delegations (Government agencies), Crime, Federal buildings and facilities, Government property, Law enforcement officers, Postal Service, Security measures.

In view of the considerations discussed above, the Postal Service adopts the following amendment to 39 CFR part 232:

PART 232—CONDUCT ON POSTAL PROPERTY

1. The authority citation for part 232 is revised to read as follows:

Authority: 18 U.S.C. 13, 3061; 21 U.S.C. 802, 844; 39 U.S.C. 401, 403(b)(3), 404(a)(7), 1201(2).

2. In § 232.1, paragraph (q)(1) is revised to read as follows:

§ 232.1 Conduct on postal property.

* * * * *

(q) Enforcement. (1) Members of the U.S. Postal Service security force shall exercise the powers provided by 18 U.S.C. 3061(c)(2) and shall be responsible for enforcing the regulations in this section in a manner that will protect Postal Service property and persons thereon.

* * * * *

Stanley F. Mires,
Chief Counsel, Legislative.

[FR Doc. E7-4457 Filed 3-12-07; 8:45 am]

BILLING CODE 7710-12-P